GENERAL SERVICES ADMINISTRATION

[OMB Control No. 3090-0243]

General Services Administration Acquisition Regulation; Submission for OMB Review; Economic Price Adjustment Clauses

AGENCY: Office of Acquisition Policy, General Services Administration (GSA).

ACTION: Notice of a request for public comments regarding the reinstatement of a previously existing OMB clearance.

SUMMARY: Under the provisions of the Paperwork Reduction Act of 1995 (44 U.S.C. Chapter 35), the General Services Administration (GSA) will be submitting to the Office of Management and Budget (OMB) a request to review and approve a reinstatement of a previously approved information collection requirement concerning the Economic Price Adjustment (EPA) Clauses for the Federal Supply Schedule (FSS) and SOP Programs. A request for public comments was published in the Federal Register at 74 FR 4596, January 26, 2009. No comments were received.

Public comments are particularly invited on: Whether the information collection generated by the General Services Administration Acquisition Regulation (GSAR) Clauses, Economic Price Adjustment (EPA) is necessary to determine an offeror's price is fair and reasonable; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Comments may be submitted on or before December 2, 2009.

ADDRESSES: Comments regarding this burden estimate or any other aspect of this collection of information, including suggestions for reducing this burden, should be submitted to: GSA Desk Officer, OMB, Room 10236, NEOB, Washington, DC 20503, and a copy to Regulatory Secretariat, 1800 F Street, NW., Room 4041, Washington, DC 20405.

FOR FURTHER INFORMATION CONTACT: Mr. Warren Blankenship, Procurement Analyst, Contract Policy Division, (202) 501-1900 or warren.blankenship@gsa.gov.

SUPPLEMENTARY INFORMATION:

A. Purpose

The General Services Administration Manual (GSAM) has prescribed in GSAM 538.1203(c)(63) the use of GSAR clause 552.238-63, Economic Price Adjustment—Supplies and/or Services with an Established Catalog Price, GSAM 538.1203(c)(64), Economic Price Adjustment—Supplies and/or Services with Market Pricing without an Established Catalog Price and in GSAM 516.203-4, the use of GSAR clause 552.216-71, Economic Price Adjustment—Special Order Programs Contracts. GSAR clauses 552.239-63 and 552.238-64 require the FSS contractor to submit certain pricing information when a request for price increases is submitted to the contracting officer under a FSS contract. GSAR clause 552.216-71 requires the SOP contractor to submit certain pricing information when a request for price increases is submitted to the contracting officer under SOP contracts. EPA clauses are used as a convenience to provide for a predetermined manner for adjusting prices based upon the occurrence of specific contingencies.

B. Annual Reporting Burden.

Number of Respondents: 30,000.

Responses per Respondent: 1.

Annual Responses: 30,000.

Average Burdens per Response: 1.

Total Burden Hours: 30,000.

Obtaining Copies of Proposals: A copy of this proposal may be obtained from the General Services Administration, Regulatory Secretariat, 1800 F Street, NW., Room 4041, Washington, DC 20405, telephone (202) 501-4755. Please cite OMB Control No. 3090-0243, Economic Price Adjustment Clauses, in all correspondence.

Dated: October 21, 2009.
Al Matera,
Director, Acquisition Policy Division.

[FR Doc. E9-26354 Filed 10-30-09; 8:45 am]

BILLING CODE 6820-61-P